DEPARTMENT OF STATE

[Public Notice 3919]

Renewal of Cultural Property Advisory Committee Charter

AGENCY: Department of State.

ACTION: Renewal of Cultural Property Advisory Committee Charter.

The Charter of the Cultural Property Advisory Committee is being renewed for a two-year period. The membership of this advisory committee consists of private sector experts in archaeology/anthropology/ethnology; experts in the international sale of cultural property; and, representatives of museums and of the general public. The committee was established by 19 U.S.C. 2601 et seq., the Convention on Cultural Property Implementation Act. It reviews requests from other countries seeking U.S. import restrictions on archaeological or ethnological material the pillage of which places a country's cultural heritage in jeopardy. The committee makes findings and recommendations to the Secretary of State, who, on behalf of the President, determines whether to impose the import restrictions.

FOR FURTHER INFORMATION CONTACT: Cultural Property Office, U.S. Department of State, Bureau of Educational and Cultural Affairs, Rm. 334, State Annex 44, 301 4th St., SW, Washington, DC 20547. Phone (202) 619-6612; Fax: (202) 260-4893.

Dated: March 25, 2002.
Maria P. Kouroupas,
Executive Director, Cultural Property Advisory Committee, Department of State.

[FR Doc. 02-7924 Filed 4-1-02; 8:45 am]

BILLING CODE 4710-11-P